DEPARTMENT OF COMMERCE

National Oceanic and Atmospheric Administration

RIN 0648-XG928

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's Summer Flounder, Scup, and Black Sea Bass Advisory Panel will hold a public meeting.

DATES: The meeting will be held on Friday, May 3, 2019, from 10 a.m. to 11:30 a.m.

ADDRESSES: The meeting will be held via webinar with an audio-only connection option. Details on the proposed agenda, connection information, and briefing materials will be posted at the MAFMC's website: www.mafmc.org.

Council address: Mid-Atlantic Fishery Management Council, 800 N. State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The purpose of the meeting is for the Advisory Panel to provide feedback on the development of the Council's 2020-24 strategic plan, after reviewing the results of a recent strategic planning stakeholder survey. An agenda and background documents will be posted at the Council's website (www.mafmc.org) prior to the meeting.

Special Accommodations

The meeting is physically accessible to people with disabilities. Requests for sign language interpretation or other auxiliary aid should be directed to M. Jan Saunders, (302) 526-5251, at least 5 days prior to the meeting date.

Dated: April 10, 2019.
Rey Israel Marquez,
Acting Deputy Director, Office of Sustainable Fisheries, National Marine Fisheries Service.

[FR Doc. 2019-07451 Filed 4-12-19; 8:45 am]

BILLING CODE 3510-22-P